DEPARTMENT OF JUSTICE

Bureau of Alcohol, Tobacco, Firearms and Explosives

[OMB Number 1140-0024]

Agency Information Collection Activities; Proposed eCollection eComments Requested; Report of Firearms Transactions—Demand 2 (ATF Form 5300.5)

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995. The proposed information collection was previously published in the Federal Register, on April 5, 2018, allowing for a 60-day comment period. The proposed information collection OMB 1140-0024 (Report of Firearms Transactions—Demand 2—ATF Form 5300.5) is also being revised due to a reduction in burden, since there is a decrease in the number of respondents, responses, and total burden hours from the previous renewal in 2015. The proposed information collection is also being published to obtain comments from the public and affected agencies.

DATES: Comments are encouraged and will be accepted for an additional 30 days until July 5, 2018.

FOR FURTHER INFORMATION CONTACT: If you have additional comments, particularly with respect to the estimated public burden or associated response time, have suggestions, need a copy of the proposed information collection instrument with instructions, or desire any other additional information, please contact Ed Stely, Branch Chief, Tracing Operations and Records Management Branch, National Tracing Center Division either by mail at 244 Needy Road, Martinsburg, WV 25405, by email at Edward.Stely@atf.gov, or by telephone at 304-260-1515. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Revision of a currently approved collection.

(2) The Title of the Form/Collection: Report of Firearms Transactions—Demand 2

(3) The agency form number, if any, and the applicable component of the Department sponsoring the collection:

Form number: 5300.5.

Component: Bureau of Alcohol, Tobacco, Firearms and Explosives, U.S. Department of Justice.

(4) Affected public who will be asked or required to respond, as well as a brief abstract:

Primary: Business or other for-profit.

Other: None.

Abstract: The ATF Form 5300.5 is used when the Bureau of Alcohol, Tobacco, Firearms and Explosives Official has determined that the Federal Firearms Licensee (FFL) has met the Demand 2 reporting requirements. The Demand 2 Program requires FFLs with 25 or more traces, with a time to crime of 3 years or less in a calendar year, to submit an annual report followed by quarterly reports of used firearms acquired by the FFL.

(5) An estimate of the total number of respondents and the amount of time estimated for an average respondent to respond: An estimated 395 respondents will utilize the form, and it will take each respondent approximately 30 minutes to complete the form.

(6) An estimate of the total public burden (in hours) associated with the collection: The estimated annual public burden associated with this collection is 790 hours which is equal to 395 (# of respondents) * 4 (# of responses per respondent) * .5 (30 minutes).

(7) An Explanation of the Change in Estimates: The changes in burden are due to decrease in the number of respondents and responses by 927 and 3,708 respectively. There was also a reduction in the burden hours for this IC by 1,854, from the previous renewal of this IC in 2015.

If additional information is required contact: Melody Braswell, Department Clearance Officer, United States Department of Justice, Justice Management Division, Policy and Planning Staff, Two Constitution Square, 145 N Street NE, 3E.405A, Washington, DC 20530.

Dated: May 31, 2018.
Melody Braswell,
Department Clearance Officer for PRA, U.S. Department of Justice.

[FR Doc. 2018-12049 Filed 6-4-18; 8:45 am]

BILLING CODE 4410-14-P